DEPARTMENT OF AGRICULTURE

Food Nutrition Service

Child Nutrition Programs-Income Eligibility Guidelines

Correction

In notice document E8-7475 beginning on page 19186 in the issue of Wednesday, April 9, 2008, make the following correction:

On page 19187, in the table, in the ninth column titled “Monthly” under the heading “Hawaii”, in the sixth row “3,359” should read as “3,539”.

[FR Doc. Z8-7475 Filed 4-18-08; 8:45 am]

BILLING CODE 1505-01-D

DEPARTMENT OF DEFENSE

Department of the Navy

[USN-2008-0016]

Privacy Act of 1974; System of Records

Correction

In notice document E8-6633 beginning on page 17331 in the issue of Tuesday, April 1, 2008, make the following correction:

On page 17332. in the first column, the system title “N0586-1” should read “N05861-1”.

[FR Doc. Z8-6633 Filed 4-18-08; 8:45 am]

BILLING CODE 1505-01-D

DEPARTMENT OF JUSTICE

Notice of Lodging Proposed Consent Decree

Correction

In notice document E8-7270 beginning on page 19249 in the issue of Wednesday, April 9, 2008, make the following correction:

On page 19250, in the first column, in the third pargraph, in the eighth line, “http://www.usdoi.gov/enrd/Consent_Decrees.html” should read “http://www.usdoj.gov/enrd/Consent_Decrees.html”.

[FR Doc. Z8-7270 Filed 4-18-08; 8:45 am]

BILLING CODE 1505-01-D

MERIT SYSTEMS PROTECTION BOARD

5 CFR Part 1201

Streamlining Regulations

Correction

In rule document E8-6934 beginning on page 18149 in the issue of Thursday, April 3, 2008, make the following correction:

§1201.72 [Corrected]

On page 18150, in the second column, in §1201.72(d)(3), in the third line, “b” should read “benefit.”

[FR Doc. Z8-6934 Filed 4-18-08; 8:45 am]

BILLING CODE 1505-01-D

DEPARTMENT OF THE TREASURY

Internal Revenue Service

26 CFR Part 301

[TD 9388]

RIN 1545-BH24

Classification of Certain Foreign

Correction

In rule document E8-5686 beginning on page 15064 in the issue of Friday, March 21, 2008, make the following correction:

§301.7701-2 [Corrected]

On page 15065, in the second column, in §301.7701-2 , paragraph “(e) Effective/applicability date.* * *” should read “(e) Effective/applicability date. * * *”

[FR Doc. Z8-5686 Filed 4-18-08; 8:45 am]

BILLING CODE 1505-01-D